DEPARTMENT OF THE INTERIOR

Office of the Secretary

[134D0102DM DLSN00000.000000 DS10100000 DX10101]

Proposed Information Collection: National Blueways System Application

AGENCY: Office of the Secretary, Department of the Interior.

ACTION: Notice and request for comments.

SUMMARY: In compliance with the Paperwork Reduction Act of 1995, the Office of the Secretary, Department of the Interior announces the proposed public information collection necessary as part of the process to nominate a river and associated watershed for National Blueway recognition, “National Blueways System Application,” and that it is seeking comments on its provisions.

DATES: Consideration will be given to all comments received by July 2, 2013.

ADDRESSES: Written comments and recommendations on this information collection should be sent to the Office of Secretary—Department of the Interior, Attn: National Blueways System, 1849 C Street NW., Room 7328, Washington, DC 20040. You may also email comments to: blueways@ios.doi.gov. Individuals providing comments should reference “National Blueways System Application.”

FOR FURTHER INFORMATION CONTACT: To obtain a copy of the collection instrument, the National Blueways System Application, go to: http://www.doi.gov/americasgreatoutdoors/whatwedo/rivers/upload/Draft_National_Blueways_System_Application_April_2013.PDF.

To request more information on this information collection, please see the contact information in the ADDRESSES section above.

SUPPLEMENTARY INFORMATION:

I. Abstract

This notice is for a new information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8(d)).

Secretarial Order 3321 created the National Blueways System under the authority of the Take Pride in America Act, Public Law 101-628; the Outdoor Recreation Act, Public Law 87-714; and the Cooperative Watershed Management Program of the Omnibus Public Land Management Act of 2009, Public Law 111-11. Rivers and their associated watersheds may be nominated voluntarily for National Blueways recognition by stakeholder partnerships, in collaboration with sponsoring Federal and state agencies.

Section 5b of Secretarial Order 3321 gives the National Blueways Committee responsibility for overseeing “the process of National Blueways criteria development, assessment, and designation” and making “recommendations to the Secretary for the designation of National Blueways.” The National Blueways Committee includes representatives of agency directors and Assistant Secretaries within the Department of the Interior, and representatives of the Departments of Agriculture and of the Army (Civil Works).

The National Blueways Committee developed the “National Blueways System Application” as the first step in the process of nomination. From the applications received, up to nine watershed partnerships per year may be invited by the National Blueways Committee to submit a nomination. The National Blueways Committee will review the nominations and make a recommendation to the Secretary of the Interior for official recognition.

This information collection allows the Office of the Secretary to collect the information necessary for the National Blueways Committee to assess whether a given river and watershed is likely to meet the criteria for recognition as a National Blueway. If this information were not collected, the National Blueways Committee would not be able to determine whether a river and watershed are likely to meet the criteria for recognition as a National Blueway and invite the watershed partnership to submit a nomination for consideration for National Blueway System recognition by the Office of the Secretary—Department of the Interior.

II. Data

(1) Title: National Blueways System Application.

OMB Control Number: 1093-NEW.

Current Expiration Date: Not applicable, this is a new collection.

Type of Review: New information collection request.

Affected Entities: Watershed stakeholder partnerships.

Estimated annual number of respondents: maximum of 25.

Frequency of responses: maximum of 2 per year.

(2) Annual reporting and recordkeeping burden:

Total annual reporting per response: The National Blueways Committee will accept applications twice per year. The first time a partnership responds it is estimated at 118 hours per application. Those partnerships not invited to submit a nomination will be able to submit another application during the second application window for that calendar year. The time required to re-submit the application for the second application window would be much reduced; we estimate 20 hours per application for second responses.

Total number of estimated responses: 40.

Total annual reporting: 3250 hours [3250 hours = (25 × 118 hours) + (15 × 20 hours)].

Total non-labor burden: estimated at $750 per application for the first response and $0 per application for second responses.

Total annual non-labor burden: $18,750 (= 25 × $750).

(3) Description of the need and use of the information: The information will be used to assess whether a given river and watershed and its partnership are likely to meet the criteria for recognition as a National Blueway.

III. Request for Comments

The Department invites comments on:

(a) Whether the collection of information is necessary for the proper performance of the functions of the Office, including whether the information will have practical utility;

(b) The accuracy of the Office's estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Office of the Secretary—Department of the Interior via the contact information in the ADDRESSES section above. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: April 25, 2013.
Rebecca Wodder,
Senior Advisor to the Secretary, Office of the Secretary—Department of the Interior.

[FR Doc. 2013-10443 Filed 5-2-13; 8:45 am]

BILLING CODE 4310-RK-P